DEPARTMENT OF TRANSPORTATION

Surface Transportation Board

[STB Finance Docket No. 34363]

Central Midland Railway Company—Lease and Operation Exemption—Missouri Central Railroad Co.

Central Midland Railway Company (Central Midland), a Class III rail carrier, has filed a verified notice of exemption under 49 CFR 1150.41, et seq., to lease from Missouri Central Railroad Co. (Missouri Central) and operate 243.8 miles of rail line between milepost 19.0 west of Vigus, MO, and milepost 262.8 at Pleasant Hill, MO.¹

¹ Central Midland indicates that it has entered into a lease agreement with Missouri Central.

Central Midland certifies that its projected annual revenues as a result of this transaction will not result in the creation of a Class II or Class I rail carrier. The parties contemplated consummating the transaction on or after January 20, 2004.²

² Central Midland initially proposed consummation on or after January 19, 2004, but subsequently filed a letter correcting the proposed consummation date as above indicated (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34363, must be filed with the Surface Transportation Board, 1925 K Street, NW., Washington, DC 20423-0001. In addition, a copy of each pleading must be served on John Broadley, 1054 31st Street, NW., Suite 200, Washington, DC 20007.

Board decisions and notices are available on our website at http://www.stb.dot.gov.

Decided: February 2, 2004.
By the Board, David M. Konschnik, Director, Office of Proceedings.
Vernon A. Williams,
Secretary.

[FR Doc. 04-2591 Filed 2-10-04; 8:45 am]

BILLING CODE 4915-00-P